DEPARTMENT OF TRANSPORTATION

National Highway Traffic Safety Administration

49 CFR Part 571

[Docket No. NHTSA-2021-0088]

RIN 2127-AK96

Federal Motor Vehicle Safety Standards; Bus Rollover Structural Integrity

AGENCY: National Highway Traffic Safety Administration (NHTSA), U.S. Department of Transportation (DOT).

ACTION: Notification of enforcement discretion.

SUMMARY: This notice announces that NHTSA will not take enforcement action against regulated entities for failing to comply with the Bus Rollover Structural Integrity final rule and the Bus Rollover Structural Integrity final rule; partial grant of petitions for reconsideration until March 20, 2025.

DATES: This notice of enforcement discretion is effective from December 30, 2024 to March 20, 2025.

FOR FURTHER INFORMATION CONTACT: For technical issues, you may contact Mr. Dow Shelnutt, Office of Crashworthiness Standards, Telephone: (202) 366-8779, Facsimile: (202) 493-2739. For legal issues, you may contact Mr. Matthew Filpi, Office of the Chief Counsel, Telephone: (202) 366-2992, Facsimile: (202) 366-3820. The mailing address of these officials is: The National Highway Traffic Safety Administration, 1200 New Jersey Avenue SE, Washington, DC 20590.

Electronic Access and Filing: This document, the notice of proposed rulemaking (NPRM), all comments received, the final regulatory evaluation (FRE), and all background material may be viewed online at www.regulations.gov using the docket number listed above. Electronic retrieval help and guidelines are available on the website. It is available 24 hours each day, 365 days each year. An electronic copy of this document may also be downloaded from the Office of the Federal Register's website at www.federalregister.gov and the Government Publishing Office's website at www.Govinfo.gov.

SUPPLEMENTARY INFORMATION: On December 29, 2021, NHTSA issued a final rule titled “Federal Motor Vehicle Safety Standards; Bus Rollover Structural Integrity.” 86 FR 74270. The final rule established FMVSS No. 227, a new Federal Motor Vehicle Safety Standard that subjects over-the-road buses (motorcoaches) and other large buses to a rollover test, and requires applicable buses provide a “survival space” to protect occupants from possible collapse of the bus structure around them. The final rule also prohibits emergency exits from opening during the rollover test. This rule became effective December 30, 2024.

On November 13, 2023, NHTSA issued a final rule titled “Federal Motor Vehicle Safety Standards; Bus Rollover Structural Integrity,” which partially granted petitions for reconsideration to the December 2021 final rule. 88 FR 77523. This final rule amended the definition of “transit bus” and revised the maximum allowable weight of objects intruding into the survival space during the rollover test described in the paragraph above. This rule became effective on December 30, 2024.

On January 20, 2025, the President issued a memorandum titled, “Regulatory Freeze Pending Review,” 90 FR 8249 (Jan. 28, 2025), to direct executive departments and agencies to consider postponing for 60 days the effective date for any rules that had been published in the Federal Register but had not taken effect for the purpose of reviewing any questions of fact, law, and policy that the rules may raise. While not explicitly subject to the President's memorandum, NHTSA is providing notice that it will exercise its enforcement discretion and not enforce the provisions of the Bus Rollover Structural Integrity final rule and Bus Rollover Structural Integrity final rule; petitions for reconsideration until March 20, 2025, to allow the officials appointed or designated by the President to review the final rule to ensure that it is consistent with the law and Administration policies.

Issued in Washington, DC, under authority delegated in 49 CFR 1.95 and 501.5.
Peter Simshauser,
Chief Counsel.

[FR Doc. 2025-03347 Filed 2-28-25; 8:45 am]

BILLING CODE P